DEPARTMENT OF LABOR

Employment and Training Administration

Comment Request for Information Collection for Employment and Training Administration Financial Report Form ETA-9130, This is an Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, the Employment and Training Administration is soliciting comments concerning the collection of data for quarterly financial reporting on federally funded programs, on Form ETA-9130 (due to expire November 30, 2012).

DATES: Written comments must be submitted to the office listed in the addresses section below on or before July 30, 2012.

ADDRESSES: Submit written comments to Shantay Logan, Office of Grants Management, N-4716, Employment and Training Administration, U.S. Department of Labor, 200 Constitution Avenue NW., Washington, DC 20210. Telephone number: 202-693-3319 (this is not a toll-free number). Individuals with hearing or speech impairments may access the telephone number above via TTY by calling the toll-free Federal Information Relay Service at 1-877-889-5627 (TTY/TDD). Fax: 202-693-3362, Email: logan.shantay@dol.gov. A copy of the proposed information collection request (ICR) can be obtained by contacting the office listed above.

SUPPLEMENTARY INFORMATION:

I. Background

This proposed information collection notice requests an extension of form ETA-9130, OMB approval No. 1205-0461 which is currently being used by all ETA federally funded programs. Financial reporting requirements for Federal programs are prescribed in OMB Circulars A-102 and A-110. U.S. DOL has codified these requirements at 29 CFR 95.52 and 29 CFR 97.41, which specify that forms approved by OMB are authorized for obtaining financial information from recipients. The U.S. DOL ETA Financial Report is consistent with OMB efforts to streamline Federal financial reporting pursuant to Public Law 106-107.

ETA programs have varied administrative cost limitation requirements as specified in program statutes, regulations, and/or individual grant agreements. These requirements are met with a line item for Total Administrative Expenditures, thus providing a mechanism for assessing compliance with these requirements.

ETA has utilized the data collected to assess the effectiveness of ETA programs and to monitor and analyze the financial activity of its grantees. Grantees are provided with software that reflects the requirements of ETA Form 9130 so that the required data will be reported electronically.

This data collection format permits ETA to evaluate program effectiveness and to monitor and analyze financial activity, while complying with OMB efforts to streamline Federal financial reporting.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Employment and Training Administration Financial Report Form ETA-9130.

OMB Number: 1205-0461.

Affected Public: State workforce agencies, local governments, non-profit organizations, educational institutions, consortia of any and/or all of the above.

Form(s): ETA-9130.

Total Annual Respondents: 848.

Annual Frequency: Quarterly.

Total Annual Responses: 6784.

Average Time per Response: ½ hour.

Estimated Total Annual Burden Hours: 3392.

Total Annual Burden Cost for Respondents: $82,198.

Data collection activity | Number of respondents | Frequency | Total responses | Average time per response | Burden hours
PY2011 | 848 | quarterly | 3392 | ½ hour | 3392
PY2012 | 848 | quarterly | 3392 | ½ hour | 3392
Total | 848 |  | 6784 | 4 hours | 6784

Comments submitted in response to this comment request will be summarized and/or included in the request for OMB approval of the ICR; they will also become a matter of public record.

Signed in Washington, DC, on this 21st day of May, 2012.
Jane Oates,
Assistant Secretary for Employment and Training, Labor.

[FR Doc. 2012-12916 Filed 5-25-12; 8:45 am]

BILLING CODE P